ENVIRONMENTAL PROTECTION AGENCY

[EPA-HQ-OPP-2015-0321; FRL-9928-13]

Pesticide Maintenance Fee; Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before December 14, 2015.

ADDRESSES: Submit your comments, identified by docket identification (ID) number EPA-HQ-OPP-2015-0321, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Information Technology and Resources Management Division (7502P), Office of Pesticide Programs, Environmental Protection Agency, 1200 Pennsylvania Ave. NW., Washington, DC 20460-0001. ATTN: Michael Yanchulis.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Yanchulis, Information Technology and Resources Managment Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel 314 pesticide products registered under FIFRA section 3 (7 U.S.C. 136a) or 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests for Cancellation
Registration No. | Company No. | Product name | Chemical name
100-793 | 100 | Mefenoxam E | Metalaxyl-M.
100-795 | 100 | Subdue WSP Fungicide | Metalaxyl-M.
100-801 | 100 | Ridomil Gold EC | Metalaxyl-M.
100-823 | 100 | Ridomil Gold PC GR | Metalaxyl-M; Pentachloronitrobenzene.
100-958 | 100 | Boundary Herbicide | Metribuzin; S-Metolachlor.
100-964 | 100 | Medal Herbicide | S-Metolachlor.
100-965 | 100 | Medal II Herbicide | S-Metolachlor.
100-1148 | 100 | Camix Selective Herbicide | Mesotrione; S-Metolachlor.
100-1165 | 100 | Brawn Herbicide | S-Metolachlor; Atrazine.
100-1217 | 100 | Gramoxone Inteon | Paraquat dichloride.
100-1227 | 100 | Ridomil Gold/Bravo Liquid Fungicide | Metalaxyl-M.
100-1243 | 100 | Quadris Gold | Azoxystrobin; Metalaxyl-M.
100-1316 | 100 | Cyclone Star | Carfentrazone-ethyl; Paraquat dichloride.
100-1360 | 100 | Cannonball WP | Fludioxonil.
264-685 | 264 | Option Corn Herbicide | Foramsulfuron.
264-771 | 264 | Domain | Flufenacet; Metribuzin.
352-793 | 352 | Dupont Imprelis Herbicide | Aminocyclopyrachlor potassium salt.
400-578 | 400 | Blizzard | Fluthiacet-methyl.
432-1403 | 432 | Prostar 1.5G | Flutolanil.
432-1408 | 432 | Super GT Fungicide | Iprodione.
432-1414 | 432 | 26/36 Fungicide | Iprodione; Thiophanate-methyl.
432-1476 | 432 | Tiberon 2.8% SC | Cyclanilide.
432-1486 | 432 | Reserve Fungicide | Triticonazole; Chlorothalonil.
1021-565 | 1021 | Pyrocide Concentrate 5792 | Pyrethrins; Piperonyl butoxide; MGK 264.
1021-1164 | 1021 | Pyrocide Intermediate 7070 | Pyrethrins; Piperonyl butoxide; MGK 264.
1021-1437 | 1021 | Multicide Intermediate 2232 | Tetramethrin; Phenothrin.
1021-1465 | 1021 | Multicide Mosquito Adulticiding Concentrate 2271 | Phenothrin.
1021-1582 | 1021 | Evercide Vegetable and Garden Insect Killer 2526 | Esfenvalerate.
1021-1611 | 1021 | Pyrocide Intermediate 51 | Pyrethrins; Piperonyl butoxide.
1021-1626 | 1021 | Evergreen Concentrate 7397 | Pyrethrins; Piperonyl butoxide.
1021-1643 | 1021 | Evercide Emulsifiable Concentrate 2667 | Esfenvalerate.
1021-1655 | 1021 | Evercide Concentrate 2625 | Prallethrin; Esfenvalerate.
1021-1656 | 1021 | Evercide Nylar Total Release Aerosol 2644 | Prallethrin; Esfenvalerate; Pyriproxyfen.
1021-1657 | 1021 | Nylar Concentrate 2631 | Pyriproxyfen.
1021-1660 | 1021 | Nylar 10% Concentrate 2637 | Pyriproxyfen.
1021-1676 | 1021 | Evercide Total Release Aerosol 2615 | Pyrethrins; Enfenvalerate; Piperonyl butoxide; MGK 264; Pyriproxyfen.
1021-1683 | 1021 | Multicide Intermediate 2737 | Prallethrin; Cyphenothrin; MGK 264.
1021-1684 | 1021 | Multicide Total Release Aerosol 27371 | Prallethrin; Cyphenothrin; MGK 264.
1021-1718 | 1021 | ETOC Fogging Concentrate 2764 | Prallethrin.
1021-1731 | 1021 | MGK Roach Trap | 2-Cyclopenten-1-one, 2-hydroxy-3-methyl-.
1021-1752 | 1021 | Evercide Esfenvalerate 35% W.P. MUP 2787 | Esfenvalerate.
1021-1756 | 1021 | Evercide Residual Roach and Ant Spray 27692 | Esfenvalerate; Imiprothrin; MGK 264.
1021-1757 | 1021 | Evercide Residual Roach and Ant Spray 27691 | Esfenvalerate; Imiprothrin; MGK 264.
1021-1765 | 1021 | Multicide Multi-Purpose Spray 27373 | Prallethrin; Cyphenothrin; MGK 264.
1021-1768 | 1021 | Multicide Wasp & Hornet Spray 27301 | Prallethrin; MGK 264.
1021-1769 | 1021 | Multicide Intermediate 2730 | Prallethrin; MGK 264.
1021-1781 | 1021 | Evercide (R) Emulsifiable Concentrate 28051 | Esfenvalerate.
1021-1782 | 1021 | Evercide Emulsifiable Concentrate 2805 MUP | Esfenvalerate.
1021-1789 | 1021 | Evercide Concentrate 2801 | Prallethrin; Permethrin; MGK 264.
1021-1793 | 1021 | Evercide Concentrate 26621 MUP | Esfenvalerate.
1021-1794 | 1021 | Evercide Esfenvalerate 10MC | Esfenvalerate.
1021-1804 | 1021 | Evercide (R) Industrial Spray 27524 | Esfenvalerate.
1021-1809 | 1021 | Evercide Total Release Fogger 24601 | Pyrethrins; MGK 264; Permethrin.
1021-1811 | 1021 | Multicide Fogging Concentrate 2611 MUP | Prallethrin; Piperonyl butoxide; MGK 264.
1021-1831 | 1021 | Evercide Total Release Fogger 24602 | Pyrethrins; MGK 264; Permethrin.
1021-1877 | 1021 | Dry Pyganic Pro | Pyrethrins.
1021-2555 | 1021 | MGK F-2929 | Bifenthrin.
1021-2632 | 1021 | Tetraperm Wasp & Hornet Killer FEQ 24 | Tetramethrin; Permethrin; Piperonyl butoxide.
1021-2633 | 1021 | Tetraperm Crawling Insect Killer FEQ 23 | Tetramethrin; Permethrin; Piperonyl butoxide.
1021-2637 | 1021 | Tetraperm Crawling Insect Killer WBA Q3 | Tetramethrin; Permethrin; Piperonyl butoxide.
1021-2638 | 1021 | Tetraperm Total Release Indoor Fogger Q3 | Tetramethrin; Permethrin; Piperonyl butoxide.
1021-2641 | 1021 | Tetraperm Total Release Indoor Fogger Q5 | Tetramethrin; Permethrin; Piperonyl butoxide.
1021-2642 | 1021 | Tetraperm Crawling Insect Killer WBA Q5 | Tetramethrin; Permethrin; Piperonyl butoxide.
1021-2643 | 1021 | Permanone Total Release Aerosol | Permethrin.
1021-2648 | 1021 | D100 Insecticide | Deltamethrin.
1021-2655 | 1021 | Ultratec HPC 1 | Deltamethrin.
1021-2664 | 1021 | Pyrenone Industrial Spray Emulsifiable Concentrate | Pyrethrins; Piperonyl butoxide.
1021-2665 | 1021 | Pyrenone General Purpose Household Spray | Pyrethrins; Piperonyl butoxide.
1021-2672 | 1021 | Pyrenone Multi-Purpose Insecticide | Pyrethrins; Piperonyl butoxide.
1021-2677 | 1021 | Pyrenone Pet Spray | Pyrethrins; Piperonyl butoxide.
1021-2686 | 1021 | Permanone General Purpose Aqueous Insecticide | Permethrin.
1021-2691 | 1021 | Tetraperm Indoor Insect Killer N104 WBA | Permethrin; Tetramethrin; Piperonyl butoxide.
1021-2696 | 1021 | Tetraperm Total Release Indoor Fogger N104 | Permethrin; Tetramethrin; Piperonyl butoxide.
1021-2698 | 1021 | Tetraperm .2+.2 CIK Household Insect Killer | Permethrin; Tetramethrin; Piperonyl butoxide.
1021-2700 | 1021 | Pyraperm Household Insect Killer WBA P60 | Pyrethrins; Permethrin; Piperonyl butoxide.
1021-2702 | 1021 | Pyraperm Total Release Indoor Fogger WBA P60 | Pyrethrins; Permethrin; Piperonyl butoxide.
1021-2703 | 1021 | Pyraperm Household Insect Killer WBA P61 | Pyrethrins; Permethrin; Piperonyl butoxide.
1021-2704 | 1021 | Pyraperm Industrial Insect Killer WBA P61 | Pyrethrins; Permethrin; Piperonyl butoxide.
1021-2705 | 1021 | Pyraperm Total Release Indoor Fogger WBA P61 | Pyrethrins; Permethrin; Piperonyl butoxide.
1021-2708 | 1021 | Pyraperm Total Release Indoor Fogger WBA P59 | Pyrethrins; Permethrin; Piperonyl butoxide.
1021-2719 | 1021 | Aqueous Pyrenone Garden Spray | Pyrethrins; Piperonyl butoxide.
1021-2723 | 1021 | Pramix Dust (0.25) | Permethrin.
1021-2727 | 1021 | RUC-415 Insecticide | Deltamethrin.
1021-2744 | 1021 | Pyrenone 30-3 Insecticide | Pyrethrins; Piperonyl butoxide.
1021-2745 | 1021 | Tetraperm TRA | Tetramethrin; Permethrin; Piperonly butoxide.
1021-2746 | 1021 | Tetraperm AS TRA | Tetramethrin; Permethrin; Piperonly butoxide; Triethylene glycol.
1021-2749 | 1021 | Pramex TC Plus | Permethrin.
1021-2750 | 1021 | S-Fen 10MC | Esfenvalerate.
1021-2751 | 1021 | Ultratec 5% TRA Concentrate | Deltamethrin.
1021-2757 | 1021 | Tetraperm 10-10 Concentrate | Permethrin; Tetramethrin.
1021-2758 | 1021 | Tetraperm 11 WB Wasp, Hornet & Yellow Jacket Killer | Permethrin; Tetramethrin.
1021-2759 | 1021 | Tetraperm 22 WB Wasp, Hornet & Yellow Jacket Killer | Permethrin; Tetramethrin.
1021-2766 | 1021 | Pramex 11.55% MUP | Permethrin.
1021-2768 | 1021 | Pyrenone 0.5-2.5 Space Spray | Pyrethrins; Piperonyl butoxide.
1021-2770 | 1021 | Pyrenone 1-5 Space Spray | Pyrethrins; Piperonyl butoxide.
1021-2777 | 1021 | S-FEN 40% Concentrate | Esfenvalerate.
1021-2778 | 1021 | S-FEN 0.25% Spray | Esfenvalerate.
1448-53 | 1448 | Busan 881 | Carbamodithioic acid, cyano-, disodium salt; Metam-Potassium.
1448-84 | 1448 | Busan 1014 | Oxydiethylenebis(alkyl* dimethyl ammonium chloride) *(as in fatty acids of coconut oil).
1448-115 | 1448 | NM-875-11 | Carbamodithioic acid, cyano-, disodium salt; Metam-Potassium.
1448-128 | 1448 | NM-35-1 | Carbamodithioic acid, cyano-, disodium salt; Metam-Potassium.
1448-180 | 1448 | NM-175-1 | Carbamodithioic acid, cyano-, disodium salt; Metam-Potassium.
1448-185 | 1448 | D-10-1 | Potassium dimethyldithiocarbamate.
1448-265 | 1448 | B-30-6 | 2-(Thiocyanomethylthio)benzothiazole.
1448-347 | 1448 | Alstar Non-Foaming Algaecide | Poly(oxy-1,2-ethanediyl(dimethylimino)-1,2-ethanediyl(dimethylimino)-1,2-ethanediyl dichloride).
1448-351 | 1448 | Busan 1104 | 1H-Pyrazole-1-methanol, 3,5-dimethyl-.
1448-382 | 1448 | NABE-M | Carbamodithioic acid, cyano-, disodium salt; Metam-Potassium.
1448-399 | 1448 | Busan 1211 | Ethanone, 2-bromo-1-(4-hydroxyphenyl)-.
1677-191 | 1677 | ECO2000-GR | Boric acid.
1706-217 | 1706 | H-940 Microbiocide | Sodium bromide.
2935-550 | 2935 | Nubark Mancozeb AS | Streptomycin sulfate; Mancozeb.
3282-32 | 3282 | Wincon Warfarin Technical | Warfarin.
3282-96 | 3282 | D-Con Bait Station VII | Bromethalin.
3282-97 | 3282 | D-Con Bait Station VIII | Bromethalin.
3282-106 | 3282 | Hyperactive | Indoxacarb.
3282-107 | 3282 | Silent | Esfenvalerate.
3282-108 | 3282 | Creepy | Esfenvalerate; Imiprothrin; MGK 264.
3282-109 | 3282 | Mandible | Indoxacarb.
3282-110 | 3282 | Difethialone Mini Blocks | Difethialone.
4787-43 | 4787 | Malathion Technical | Malathion.
4787-46 | 4787 | Atrapa 8E | Malathion.
5382-46 | 5382 | Chlorite Plus CD-2 | Sodium chlorite.
5481-350 | 5481 | Metam Sodium | Metam-sodium.
5481-418 | 5481 | Metam Sodium Soil Fumigant for All Crops | Metam-sodium.
5481-420 | 5481 | Amvac Metam | Metam-sodium.
5481-446 | 5481 | Metacide 42 | Metam-sodium.
5813-14 | 5813 | Formula 409 Disinfectant Bathroom Cleaner I | Quaternary ammonium compounds.
5813-16 | 5813 | Clorox Cleaner | Quaternary ammonium compounds.
5813-17 | 5813 | Formula 409 Disinfectant Bathroom Cleaner | Quaternary ammonium compounds.
5813-22 | 5813 | Entire | Quaternary ammonium compounds.
5813-26 | 5813 | Lemon-Sol Cleaner-Disinfectant | Quaternary ammonium compounds.
5813-29 | 5813 | Lemon-Sol Household Cleaner & Disinfectant | Quaternary ammonium compounds.
5813-30 | 5813 | Pine-Sol Household Cleaner | Quaternary ammonium compounds; Pine oil.
5813-37 | 5813 | Pine-Sol Multi-Purpose Spray Cleaner | Quaternary ammonium compounds; Pine oil.
5813-38 | 5813 | Pine-Sol Spray 18488 | Quaternary ammonium compounds.
5813-39 | 5813 | Pine-Sol Spray 18864 | Quaternary ammonium compounds.
5813-55 | 5813 | Clorox RTU-C | Quaternary ammonium compounds.
5813-62 | 5813 | Clorox 409-P | Quaternary ammonium compounds.
5813-75 | 5813 | Clorox Trapeze | Poly(hexamethylenebiguanide hydrochloride).
5813-77 | 5813 | CDWII | Poly(hexamethylenebiguanide hydrochloride).
5813-78 | 5813 | CTW | Poly(hexamethylenebiguanide hydrochloride).
6836-71 | 6836 | Lonza Formulation Y-59 | Quaternary ammonium compounds.
10163-247 | 10163 | Flutolanil Technical | Flutolanil.
11556-167 | 11556 | Endalfly Insecticide Cattle Ear Tag | Endosulfan.
21164-3 | 21164 | Dura Klor | Sodium chlorite.
21164-5 | 21164 | Akta Klor 80 | Sodium chlorite.
35935-52 | 35935 | Tribenuron Technical | Tribenuron-methyl.
39967-98 | 39967 | N-1386 Naphtha HAN | Bis(trichloromethyl) sulfone.
39967-104 | 39967 | P-1 Preservative Solution | o-Phenylphenol, sodium salt.
48273-27 | 48273 | Marman Herbiquat Herbicide | Paraquat dichloride.
56392-1 | 56392 | Precise Hospital Foam Cleaner Disinfectant | o-Phenylphenol.
56392-2 | 56392 | Citrace Hospital Germicidal Deodorizer | o-Phenylphenol; Ethanol.
56392-4 | 56392 | Citrex Hospital Spray Disinfectant | o-Phenylphenol; Ethanol.
57787-4 | 57787 | Liquichlor Bleach | Sodium hypochlorite.
57787-20 | 57787 | Algae Inhibitor | Quaternary ammonium compounds.
57787-21 | 57787 | Silver Algaecide | Silver.
66330-307 | 66330 | Metsulfuron 60EG IVM | Metsulfuron.
66330-308 | 66330 | Metsulfuron 60EG Turf | Metsulfuron.
66330-309 | 66330 | Metsulfuron Methyl Technical | Metsulfuron.
66330-310 | 66330 | Metsulfuron 60EG AG | Metsulfuron.
66330-384 | 66330 | Audit 75 WDG Herbicide | Tribenuron-methyl; Thifensulfuron.
66330-390 | 66330 | Shooter Insecticide | Deltamethrin; Geraniol; Oil of thyme.
67619-2 | 67619 | CPPC 409 | Quaternary ammonium compounds.
67619-23 | 67619 | CPPC CDQ | Quaternary ammonium compounds.
69129-1 | 69129 | Nexa Cedarwood Oil Moth Protection | Cedarwood oil.
69681-17 | 69681 | Clor Mor Perfect Shock 45 | Sodium dichloro-s-triazinetrione.
69681-18 | 69681 | Clor Mor Perfect Shock 15 | Sodium dichloro-s-triazinetrione.
71654-11 | 71654 | Dupont Simple Pool Care Sanitizer Chlorinating Granules | Sodium dichloroisocyanurate dihydrate.
71654-12 | 71654 | Dupont Simple Pool Care Sanitizer (3″) (1″) Chlorinating Tablets | Trichloro-s-triazinetrione.
71654-13 | 71654 | Dupont Spa Care Sanitizer Brominating Tablets | 1,3-Dichloro-5-ethyl-5-methylhydantoin; 1,3-Dichloro-5,5-dimethylhydantoin; Halobrom.
71995-3 | 71995 | Kleeraway Grass & Weed Killer2 | Sodium acifluorfen; Glyphosate-isopropylammonium.
81927-32 | 81927 | Alligare Volt Herbicide | Pyraflufen-ethyl; Glyphosate-isopropylammonium.
AL050002 | 100 | Caparol 4L | Prometryn.
AL090003 | 62719 | Milestone VM | Triisopropanolamine salt of aminopyralid.
AR010004 | 279 | Command 3ME Microencapsulated Herbicide | Clomazone.
AR080002 | 279 | Spartan 4F | Sulfentrazone.
AR100004 | 62719 | Milestone VM | Triisopropanolamine salt of aminopyralid.
AR140002 | 524 | Mon 63410 Herbicide | Acetochlor.
AZ060004 | 10163 | Eptam 7-E | Carbamothioic acid, dipropyl-, S-ethyl ester.
CA000003 | 279 | Capture 2EC-Cal Insecticide/Miticide | Bifenthrin.
CA020004 | 279 | Capture 2EC-Cal Insecticide/Miticide | Bifenthrin.
CA060009 | 1677 | Tsunami 100 | Hydrogen peroxide; Ethaneperoxoic acid.
CA080005 | 10163 | Onager Miticide | Hexythiazox.
CA090010 | 264 | Ethrel Brand Ethephon Plant Regulator | Ethephon.
CA110007 | 10163 | Supracide 2E Insecticide | Methidathion.
CA940002 | 10163 | Gowan Trifluralin 10G | Trifluralin.
CA940003 | 10163 | Gowan Trifluralin 10G | Trifluralin.
CA970036 | 59639 | Valent Bolero 10 G | Thiobencarb.
CO060003 | 264 | Radius Herbicide | Isoxaflutole; Flufenacet.
CO080006 | 264 | Ethrel Brand Ethephon Plant Regulator | Ethephon.
CO100001 | 279 | Mustang Max Insecticide | Zeta-Cypermethrin.
CT080001 | 70506 | Dupont Manzate Pro-Stick Fungicide | Mancozeb.
CT090001 | 70506 | Penncozeb 75 DF | Mancozeb.
DC030001 | 34704 | Sprout Nip Emulsifiable Concentrate | Chlorpropham.
FL000006 | 100 | Reward Landscape and Aquatic Herbicide | Diquat dibromide.
FL110008 | 62719 | Milestone VM | Triisopropanolamine salt of aminopyralid.
GA080001 | 279 | Brigade 2EC Insecticide/Miticide | Bifenthrin.
GA080008 | 59639 | Chateau WDG Herbicide | Flumioxazin.
HI030002 | 66222 | Thiodex 3 EC Insecticide | Endosulfan.
HI030007 | 352 | Dupont Hyvar X Herbicide | Bromacil.
HI090003 | 62719 | Goaltender | Oxyfluorfen.
HI840004 | 264 | Amchem Ethrel Pineapple Growth Regulator | Ethephon.
IA090001 | 241 | Respect EC Insecticide | Zeta-Cypermethrin.
IA100002 | 7969 | Z-Cype 0.8 EC Insecticide | Zeta-Cypermethrin.
IA890002 | 59639 | Cobra Herbicide | Lactofen.
ID030008 | 5481 | Blocker (TM) 4F | Pentachloronitrobenzene.
ID080004 | 400 | Temprano | Abamectin.
ID100001 | 279 | Mustang Max Insecticide | Zeta-Cypermethrin.
ID910001 | 62719 | Treflan TR-10 | Trifluralin.
KS960001 | 59639 | Select 2EC Herbicide | Clethodim.
KY100001 | 100 | Dual Magnum Herbicide | S-Metolachlor.
KY120016 | 241 | Prowl H2O Herbicide | Pendimethalin.
LA020002 | 62719 | Goal 2XL Herbicide | Gas cartRidge (as a device for burrowing animal control); Oxyfluorfen.
LA020005 | 62719 | Delta Goal | Oxyfluorfen.
LA050003 | 279 | Mustang Insecticide | Zeta-Cypermethrin.
LA070003 | 53883 | Bifen XTS Insecticide/Termiticide | Bifenthrin.
LA070004 | 279 | Brigade 2EC Insecticide/Miticide | Bifenthrin.
LA080008 | 53883 | Bifen XTS | Bifenthrin.
LA080009 | 53883 | Dominion 2L | Imidacloprid.
LA080010 | 53883 | Bifenthrin I/T Insecticide/Termiticide | Bifenthrin.
LA140001 | 524 | Mon 63410 Herbicide | Acetochlor.
MD080003 | 352 | Dupont Vydate C-LV Insecticide/Nematicide | Oxamyl.
MN010005 | 59639 | Select 2EC Herbicide | Clethodim.
MN100001 | 279 | Z-Cype 0.8 EC Insecticide | Zeta-Cypermethrin.
MN110004 | 62719 | Milestone VM | Triisopropanolamine salt of aminopyralid.
MO000001 | 59639 | Select 2EC Herbicide | Clethodim.
MO040001 | 62719 | Strongarm | Diclosulam.
MO050005 | 264 | Radius Herbicide | Isoxaflutole; Flufenacet.
MO140005 | 524 | Mon 63410 Herbicide | Acetochlor.
MO140006 | 524 | Mon 63410 Herbicide | Acetochlor.
MS010009 | 100 | ZPP 1560 Herbicide | Gas cartRidge (as a device for burrowing animal control); Glyphosate.
MS020017 | 62719 | Goal 2XL Herbicide | Oxyfluorfen.
MS040010 | 53883 | Glyphosate 41% | Glyphosate-isopropylammonium.
MS040013 | 100 | Touchdown Total | Glyphosate.
MS040014 | 100 | Touchdown Hitech Herbicide | Glyphosate.
MS040015 | 100 | Touchdown Pro Herbicide | Glyphosate.
MS050012 | 100 | Caparol 4L | Prometryn.
MS050021 | 100 | Gramoxone Inteon | Paraquat dichloride.
MS080001 | 279 | Brigade 2EC Insecticide/Miticide | Bifenthrin.
MS090002 | 7969 | Termidor 80 WG Termiticide/Insecticide | Fipronil.
MS090003 | 7969 | Termidor SC Termiticide/Insecticide | Fipronil.
MS090008 | 62719 | Milestone VM | Triisopropanolamine salt of aminopyralid.
MS140001 | 524 | Mon 63410 Herbicide | Acetochlor.
MT100001 | 279 | Mustang Max Insecticide | Zeta-Cypermethrin.
NC070002 | 279 | Brigade 2EC | Bifenthrin.
ND020002 | 59639 | Select 2EC Herbicide | Clethodim.
ND100003 | 279 | Mustang Max Insecticide | Zeta-Cypermethrin.
ND110004 | 352 | Dupont Express Herbicide with Totalsol Soluble Granules | Tribenuron-methyl.
NE030002 | 62719 | Propimax EC | Propiconazole.
NE040001 | 279 | Mustang Max | Zeta-Cypermethrin.
NE080004 | 7969 | Respect EC Insecticide | Zeta-Cypermethrin.
NE100004 | 7969 | Respect Insecticide | Zeta-Cypermethrin.
NJ070002 | 70506 | Devrinol 50-DF | Napropamide.
NM040003 | 62719 | Lock-On | Chlorpyrifos.
NM100003 | 70506 | Devrinol 50-DF Selective Herbicide | Napropamide.
NV010005 | 62719 | Laredo EC | Myclobutanil.
NV080002 | 400 | Temprano | Abamectin.
NV080004 | 62719 | Lorsban Advanced | Chlorpyrifos.
NY080001 | 352 | Dupont Vydate C-LV Insecticide/Nematicide | Oxamyl.
NY110006 | 10163 | GWN-3061 | Halosulfuron-methyl.
OH100003 | 279 | Mustang Max Insecticide | Zeta-Cypermethrin.
OK080001 | 279 | Brigade 2EC Insecticide/Miticide | Bifenthrin.
OK080003 | 279 | Spartan 4F Herbicide | Sulfentrazone.
OR030015 | 5481 | Blocker (TM) 4F | Pentachloronitrobenzene.
OR070015 | 279 | Brigade 2EC Insecticide/Miticide | Bifenthrin.
OR100001 | 279 | Z-Cype 0.8 EC Insecticide | Zeta-Cypermethrin.
OR940049 | 10163 | Imidan 70-WP Agricultural Insecticide | Phosmet.
OR970024 | 62719 | Stinger | Clopyralid, monoethanolamine salt.
PA070002 | 352 | Dupont Vydate C-LV Insecticide/Nematicide | Oxamyl.
PA110002 | 352 | Dupont Assure II Herbicide | Quizalofop-p-ethyl.
PR040006 | 50534 | Bravo Weatherstik | Chlorothalonil.
SC080001 | 7969 | G-Max Lite | Dimethenamide-P; Atrazine.
SC080003 | 279 | Brigade 2EC Insecticide/Miticide | Bifenthrin.
SC090004 | 62719 | Milestone VM | Triisopropanolamine salt of aminopyralid.
SC110004 | 8329 | Natular 2EC | Spinosad.
SD090005 | 241 | Journey Herbicide | Imazapic; Glyphosate-isopropylammonium.
SD100002 | 7969 | Integrity Herbicide | Saflufenacil; Dimethenamide-P.
SD130006 | 524 | Mon 63410 Herbicide | Acetochlor.
TN040005 | 62719 | Strongarm | Diclosulam.
TN070005 | 62719 | Dithane DF Rainshield | Mancozeb.
TN080001 | 279 | Spartan 4F | Sulfentrazone.
TN080012 | 352 | Dupont Accent Herbicide | Nicosulfuron.
TX060020 | 62719 | Enable 2F | Fenbuconazole.
TX070001 | 279 | Command 3ME Herbicide | Clomazone.
TX090001 | 10163 | Imidan 70-W | Phosmet.
TX110002 | 62719 | Milestone VM | Triisopropanolamine salt of aminopyralid.
TX140003 | 524 | Mon 63410 Herbicide | Acetochlor.
TX930009 | 59639 | Select 2EC Herbicide | Clethodim.
UT100001 | 59639 | Chateau WDG Herbicide | Flumioxazin.
VA100004 | 62719 | Milestone VM | Triisopropanolamine salt of aminopyralid.
VA110003 | 62719 | Milestone VM | Triisopropanolamine salt of aminopyralid.
VA130001 | 5481 | Vapam HL Soil Fumigant | Metam-sodium.
VA130002 | 5481 | AMV 540 | Metam-Potassium.
VA830012 | 5481 | Stauffer Vapam 4-S Soil Fumigant Solution | Metam-sodium.
WA010019 | 10163 | Imidan 70-W Agricultural Insecticide | Phosmet.
WA010026 | 10163 | Hexygon WDG | Hexythiazox.
WA020026 | 62719 | Laredo EC | Myclobutanil.
WA030031 | 10163 | Imidan 70-W Agricultural Insecticide | Phosmet.
WA040032 | 71711 | Moncut 70-DF | Flutolanil.
WA070016 | 279 | Brigade 2EC Insecticide/Miticide | Bifenthrin.
WA080002 | 66330 | Iprodione 4L AG | Iprodione.
WA080005 | 66330 | Iprodione 4L AG | Iprodione.
WA090021 | 5481 | Orthene 97 Pellets | Acephate.
WA100003 | 59639 | Chateau Herbicide WDG | Flumioxazin.
WA110009 | 66330 | Dimethoate 4E | Dimethoate.
WA120003 | 71021 | Formaldehyde Solution 37 | Formaldehyde.
WI030003 | 62719 | Stinger | Clopyralid.
WI050001 | 62719 | Stinger | Clopyralid, monoethanolamine salt.
WI070005 | 352 | Do Pont Vydate L Insecticide/Nematicide | Oxamyl.
WI080002 | 62719 | Stinger | Clopyralid, monoethanolamine salt.
WV140001 | 62719 | Enable 2F | Fenbuconazole.
WY040002 | 53883 | Glyphosate 41% | Glyphosate-isopropylammonium.
WY100001 | 279 | Mustang Max Insecticide | Zeta-Cypermethrin.
WY100005 | 59639 | Chateau WDG Herbicide | Flumioxazin.

Table 2 of this unit includes the names and addresses of record for all registrants of the products in Table 1 of this unit, in sequence by EPA company number. This number corresponds to the first part of the EPA registration numbers of the products listed in this unit.

Table 2—Registrants Requesting Voluntary Cancellation
EPA company No. | Company name and address
100 | Syngenta Crop Protection, LLC., P.O. Box 18300, Greensboro, NC 27419.
241 | BASF Corporation, P.O. Box 13528, Research Triangle Park, NC 27709.
264 | Bayer Cropscience, LP., P.O. Box 12014, Research Triangle Park, NC 27709.
279 | FMC Corp. Agricultural Products Group, 1735 Market St., Rm 1978, Philadelphia, PA 19103.
352 | E. I. Du Pont de Nemours and Company, 1007 Market Street, Wilmington, DE 19898.
400 | MacDermid Agricultural Solutions, Inc., 245 Freight Street, Waterbury, CT 06702.
432 | Bayer Environmental Science, A Division of Bayer Cropscience LP., P.O. Box 12014, Research Triangle Park, NC 27709.
524 | Monsanto Company, 1300 I Street NW., Suite 450 East, Washington, DC 20005.
1021 | Mclaughlin Gormley King Company, D/B/A MGK, 8810 Tenth Avenue North, Minneapolis, MN 55427.
1448 | Buckman Laboratories Inc., 1256 North McLean Blvd., Memphis, TN 38108.
1677 | Ecolab, Inc., 370 North Wabasha Street, St. Paul, MN 55102.
1706 | Ecolab, Inc., Agent for: Nalco Company, 370 North Wabasha Street, St. Paul, MN 55102.
2935 | Wilbur-Ellis Company, 2903 S. Cedar Avenue, Fresno, CA 93725.
3282 | Reckitt Benckiser, LLC., D/B/A Reckitt Benckiser, 399 Interpace Parkway, Parsippany, NJ 07054.
4787 | Cheminova Inc., 1600 Wilson Blvd., Suite 700, Arlington, VA 22209.
5382 | Basic Chemicals Company, LLC., 5005 LBJ Freeway, Dallas, TX 75244.
5481 | Amvac Chemical Corporation, 4695 Macarthur Court, Suite 1200, Newport Beach, CA 92660.
5813 | The Clorox Co., c/o PS&RC, P.O. Box 493, Pleasanton, CA 94566.
6836 | Lonza Inc., 90 Boroline Road, Allendale, NJ 07401.
7969 | BASF Corporation, Agricultural Products, P.O. Box 13528, Research Triangle Park, NC 27709.
8329 | Clarke Mosquito Control Products, Inc., 675 Sidwell Court, St. Charles, IL 60174.
10163 | Gowan Company, P.O. Box 5569, Yuma, AZ 85366.
11556 | Bayer Healthcare LLC., Animal Health Division, P.O. Box 390, Shawnee Mission, KS 66201.
21164 | Basic Chemicals Company, LLC., 5005 LBJ Freeway, Dallas, TX 75244.
34704 | Loveland Products, Inc., P.O. Box 1286, Greeley, Co 80632.
35935 | Nufarm Americas Inc., 4020 Aerial Center Pkwy., Suite 101, Morrisville, NC 27560.
39967 | Lanxess Corporation, 111 RIDC Park West Drive, Pittsburgh, PA 15275.
48273 | Nufarm Inc., Agent For: Marman Usa Inc., 4020 Aerial Center Pkwy., Suite 101, Morrisville, NC 27560.
50534 | GB Biosciences Corporation, P.O. Box 18300, Greensboro, NC 27419.
53883 | Control Solutions, Inc., 5903 Genoa-Red Bluff Road, Pasadena, TX 77507.
56392 | Clorox Professional Products Company, c/o PS&RC, P.O. Box 493, Pleasanton, CA 94566.
57787 | Haviland Consumer Products, Inc., D/B/A Haviland Consumer Products, 421 Ann Street NW., Grand Rapids, MI 49504.
59639 | Valent U.S.A. Corporation, 1600 Riviera Avenue, Suite 200, Walnut Creek, CA 94596.
62719 | Dow Agrosciences LLC., 9330 Zionsville Road, Indianapolis, IN 46268.
66222 | Makhteshim Agan of North America, Inc., D/B/A Adama, 3120 Highwoods Blvd., Suite 100, Raleigh, NC 27604.
66330 | Arysta Lifescience North America, LLC., 15401 Weston Parkway, Suite 150 Cary, NC 27513.
67619 | Clorox Professional Products Company, c/o PS&RC, P.O. Box 493, Pleasanton, CA 94566.
69129 | The Scotts Company, Agent for: Celaflor GMBH, 14111 Scottslawn Road, Marysville, OH 43041.
69681 | Allchem Performance Products, 6010 NW First Place, Gainesville, FL 32607.
70506 | United Phosphorus, Inc., 630 Freedom Business Center, Suite 402, King of Prussia, PA 19406.
71021 | Ecolab Inc., Agent for: Corsicana Technologies, Inc., 370 North Wabasha Street, St. Paul, MN 55102.
71654 | The Chemours Company FC., LLC., 1007 Market Street, Wilmington, DE 19898.
71711 | Nichino America, Inc., 4550 New Linden Hill Road, Suite 501, Wilmington, DE 19808.
71995 | Monsanto Company, 1300 I Street NW., Suite 450 East, Washington, DC 20005.
81927 | Pyxis Regulatory Consulting, Inc., Agent for: Alligare, LLC., 4110 136th St. NW., Gig Harbor, WA 98332.

III. What is the agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register. EPA will provide a 180-day comment period on the proposed requests. Thereafter, the EPA Administrator may approve such a request.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products until January 15, 2016. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: June 6, 2015.
Mark A. Hartman,
Acting Director, Information Technology and Resources Management Division, Office of Pesticide Programs.

[FR Doc. 2015-14674 Filed 6-15-15; 8:45 am]

BILLING CODE 6560-50-P